DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 83 FR 6179-6185, dated March 14, 2018) is amended to reflect the details of the reorganization of the Centers for Disease Control and Prevention. This reorganization is being undertaken to enhance CDC's role in leading business strategies, strategic and risk management, and fiscal integrity activities, as well as increase the visibility of agency wide management and customer services.

Section C-B, Organization and Functions, is hereby amended as follows:

Delete in its entirety the functional statement for the Office of the Director (CAJ1), Office of the Chief Operating Officer (CAJ), and insert the following:

Office of the Director (CAJ1). (1) Manages and directs the activities and functions of the Office of the Chief Operating Officer; (2) provides guidance and support in the conduct of agency-wide business services and management activities performed for or by CIOs; (3) participates in the development of CDC's priority areas, goals, and objectives; (4) advises and assists the CDC Director and other key officials on all aspects of business services activities and functions; (5) oversees operation of the Working Capital Fund; and (6) oversees governance of the Agency's labor management activities.

After the functional statement for the Freedom of Information Act Office (CAJ12), insert the following:

Strategic Business Initiatives Unit (CAJ13). (1) Evaluates and conducts agency-wide enterprise risk monitoring and management; (2) develops and executes the annual Federal Managers' Financial Integrity Act program review; (3) conducts special reviews and appraises the adequacy and effectiveness of agency-wide practices and operations; (4) coordinates responses to Office of the Inspector General hotline and other agency special reviews; (5) administers the Federal Advisory Committee Act program; (6) develops, coordinates, and formalizes CDC operational policies; (7) oversees the agency's records management program; and (8) manages CDC's delegations of authority and organizational structure and functions.

Delete in their entirety the title and functional statement for the Budget Operations Services Branch (CAJEVJ), Office of Financial Resources (CAJE), and insert the following:

Budget Control and Compliance Services Branch (CAJEVJ). (1) Conducts agency-level budget functions, financial data analysis, and reporting; (2) assists the Office of Budget Services in providing budgetary information for business decision-making support surrounding public health; (3) conducts ongoing reviews of budget systems used to support the agency's financial management activities; (4) provides ongoing budget control support for all CDC/ATSDR funds; (5) reports compliance of laws, regulations, and decisions to the Director, Office of Budget Services; (6) provides information to the Director, Office of Budget Services related to funds control management for the agency's budget; (7) assists in the review of Congressional bill language to identify and properly account for earmarks and other directed programs; (8) assists in fulfilling HHS and OMB reporting requirements; (9) calculates agency-level funding authority during continuing resolution periods, as required; and (10) provides guidance and advice to the CDC CFO and the Director, Office of Budget Services, on issues related to use of CDC appropriations and other matters concerning budgetary policy, law and regulations.

Delete in their entirety the title and functional statement for the Infectious Disease Budget Execution Services Branch (CAJEVK), and insert the following:

Budget Planning and Analytics Services Branch (CAJEVK). (1) Assists in developing plans to execute agency-level budget; (2) ensures changes and plans are in compliance with decisions and agency direction; (3) assists CIOs in establishing an agency-level planning budget to forecast annual funding and prepare spend plans for the upcoming fiscal year; (4) conducts ongoing reviews of budget systems used to support the agency's financial planning activities; (5) provides budgetary support for salary related costs including labor distribution system; (6) coordinates cross-cutting and ad hoc analysis of agency resources and funds; (7) provides support for international budget execution and analysis; (8) manages standard reoccurring reporting on special initiatives HHS; and (9) provides surge support for emergencies, outbreaks, and special initiatives.

Delete in their entirety the title and functional statement for the Public Health Scientific Services Budget Execution Services Branch (CAJEVL), and insert the following:

Training, Development, and Specialized Funding Budget Execution Services Branch (CAJEVL). (1) Develops, coordinates, and tracks budget execution related training for CDC personnel including the development of various budget certification programs; (2) develops and maintains agency budget execution standard operating procedures, guidance, and job-aids; (3) provides guidance and training support for special funding types such as Interagency Agreements (IAAs), gifts, CRADAs, user fees, etc.; (4) establishes and maintains systems to facilitate the processing of special funding types; (5) assists in developing reports for various funding types and coordinates with Program Resource Management and Budget Execution Support teams; and (6) supports process improvement and workforce development initiatives including performance management designed to support optimal budget execution.

Delete in their entirety the title and functional statement for the Office of the Director, OSTLTS, and Occupational Safety and Health Budget Execution Services Branch (CAJEVM), and insert the following:

Budget Execution Services Branch 1 (CAJEVM). (1) Provides the legal and regulatory expertise and support to execute CDC's budget within the framework of HHS, OMB, and Congressional regulations, and policies of CDC OD; (2) manages the expectations agreed upon in the Budget Execution Services Service Level Agreement; (3) promotes structured, ongoing partnerships with CIOs; (4) supports programs with funds management including funds certification; (5) provides the leadership and guidance for spend plan creation and administration, in compliance with all federal guidelines and policies, such as the Anti-Deficiency Act; (6) provides the overall analysis of spend plans to advise programs on future spending decisions; (7) assists program officials in developing sub-allocation of CIO, and/or Division ceilings; (8) communicates and shares knowledge with programs and CDC's budget analyst community; and (9) performs cost-benefit analysis to review financial requests and makes recommendations for future-year budget.

Delete in their entirety the title and functional statement for the Non-Communicable Disease, Injury, and Environmental Health Budget Execution Services Branch (CAJEVN), and insert the following:

Budget Execution Services Branch 2 (CAJEVN). (1) Provides the legal and regulatory expertise and support to execute CDC's budget within the framework of HHS, OMB, and Congressional regulations, and policies of CDC OD; (2) manages the expectations agreed upon in the Budget Execution Services Service Level Agreement; (3) promotes structured, ongoing partnerships with CIOs; (4) supports programs in with funds management including funds certification; (5) provides the leadership and guidance for spend plan creation and administration, in compliance with all federal guidelines and policies, such as the Anti-Deficiency Act; (6) provides the overall analysis of spend plans to advise programs on future spending decisions; (7) assists program officials in developing sub-allocation of CIO, and/or Division ceilings; (8) communicates and shares knowledge with programs and CDC's budget analyst community; and (9) performs cost-benefit analysis to review financial requests and makes recommendations for future-year budget.

Delete in their entirety the title and functional statement for the Global Health Budget Execution Services Branch (CAJEVP), and insert the following:

Budget Execution Services Branch 3 (CAJEVP). (1) Provides the legal and regulatory expertise and support to execute CDC's budget within the framework of HHS, OMB, and Congressional regulations, and policies of CDC OD; (2) manages the expectations agreed upon in the Budget Execution Services Service Level Agreement; (3) promotes structured, ongoing partnerships with CIOs; (4) supports programs with funds management including funds certification; (5) provides the leadership and guidance for spend plan creation and administration, in compliance with all federal guidelines and policies, such as the Anti-Deficiency Act; (6) provides the overall analysis of spend plans to advise programs on future spending decisions; (7) assists program officials in developing sub-allocation of CIO, and/or Division ceilings; (8) communicates and shares knowledge with programs and CDC's budget analyst community; and (9) performs cost-benefit analysis to review financial requests and makes recommendations for future-year budget.

Delete in their entirety the title and functional statement for the Preparedness, Response, and Office of the Chief Operating Officer Budget Execution Services Branch (CAJEVQ), and insert the following:

Budget Execution Services Branch 4 (CAJEVQ). (1) Provides the legal and regulatory expertise and support to execute CDC's budget within the framework of HHS, OMB, and Congressional regulations, and policies of CDC OD; (2) manages the expectations agreed upon in the Budget Execution Services Service Level Agreement; (3) promotes structured, ongoing partnerships with CIOs; (4) supports programs with funds management including funds certification; (5) provides the leadership and guidance for spend plan creation and administration, in compliance with all federal guidelines and policies, such as the Anti-Deficiency Act; (6) provides the overall analysis of spend plans to advise programs on future spending decisions; (7) assists program officials in developing sub-allocation of CIO, and/or Division ceilings; (8) communicates and shares knowledge with programs and CDC's budget analyst community; and (9) performs cost-benefit analysis to review financial requests and makes recommendations for future-year budget.

After the functional statement for the Office of the Director (CAJ1), Office of the Chief Information Officer (CAJR), and insert the following:

Technology Modernization and Solutions Office (CAJR15). The mission of the Technology and Modernization Office (TMSO) is to bring out innovation, agility, and resilience of OCIO's information technology throughout the portfolio lifecycle. To carry out its mission, TMSO: (1) Leads, plans, and manages CDC's information technology (IT) budget development and review processes; (2) advances the field of public health information technology for the Agency through applied research and innovation; (3) coordinates the development and implementation of OCIO enterprise portfolio and investment strategy; (4) establishes, implements and communicates a comprehensive and integrated framework for CDC enterprise architecture; (5) identifies needs and resources for new initiatives and assigns responsibilities for their development; (6) provides centralized information technology portfolio services; and (7) coordinates the development of a research agenda for information technology and public health collaboration.

Enterprise Information Technology Portfolio Office (CAJR152). (1) Plans and directs the capital planning investment Control processes including investment selection, control and evaluation, business case analyses, lifecycle reviews, portfolio development, performance measures, and investment prioritization procedures; (2) develops and monitors earned value management analyses of project cost, schedule and deliverable commitments; (3) provides guidance to program and project managers on the use of the tools for preparing investment documentation that meet CDC, HHS, and OMB requirements; (4) develops CDC IT strategic and tactical plans; (5) provides guidance to program and project managers on technology business management; (6) leads development of the enterprise architecture and transition strategies; (7) collaborates with CDC staff to develop business process models for CDC public health functions; (8) develops and maintains a shared services catalog to promote reuse of existing resources; (9) supports CDC information resource governance structures including common processes, tools, techniques; (10) identifies needs and develops strategies and approaches to acquire and manage enterprise statistical software licenses; and (11) develops internal cost allocation methods and coordinates allocation of costs for annual license renewal payments.

Informatics Innovation Unit (CAJR153). (1) Collaborates with CDC programs and the broader public health community to develop innovative technologies and techniques to positively impact public health practice; (2) transitions new technology-based solutions, standards, and techniques to programs for deployment and implementation; (3) provides consultation, evaluation, guidance, and support in the use of new informatics solutions; (4) rapidly define problems, create prototypes, conduct pilot projects, and examine and test hypotheses to support information technology solutions; (5) participates and represents the agency on technology innovation committees, workgroups, organizations, and councils, within CDC and with other federal agencies; (6) provides education to fellows, colleagues, and partners on emerging information technology tools, techniques, and methodologies; and (7) provides regular updates to leadership as to the status of all projects in the technology innovation laboratory.

Office of Business Operations (CAJR16). (1) Manages OCIO centralized internal accounting services, and budget services; (2) provides guidance, oversight, and coordination in the internal areas of organizational and human capital management, continual process improvement, policy, performance, communication, budget formulation, enterprise risk management, administrative management and internal acquisition services; (3) provides expertise in interpreting applicable laws, regulations, policies, and offers guidance, direction, and coordination in resolving issues; (4) advises and assists the CDC Chief Information Officer, OCIO office directors, and senior staff on all matters regarding internal business service operations; (5) maintains internal controls; (6) coordinates and manages operationally focused project teams; (7) provides leadership and strategic support in the determination of long-term operational needs; (8) provides collaboration and centralized consolidation of Office reporting requirements; (9) provides strategic planning and coordination of OCIO transformation projects and initiatives; and (10) manages and implements special projects sponsored by OCIO leadership.

Policy, Performance and Communications Activity (CAJR162). (1) Provides leadership, oversight, and guidance for OCIO Enterprise Risk Management; (2) identifies systemic operational risks and issues and communicates them to OCIO leadership for consideration, mitigation and issue resolution; (3) provides leadership, coordination, and collaboration on OCIO issues management and triaging, and ensures the process of ongoing issues identification, management and resolution; (4) establishes OCIO business performance metrics and coordinates reviews to ascertain status on meeting the metrics; (5) conducts business analytics and reporting on performance data collected from other OCIO offices and sections; (6) provides reporting for annual planning meetings, annual reports, data calls, end-of-year coordination, and ad-hoc requests; (7) leads OCIO performance management, including the development of strategic plans, performance metrics, dashboards, and Quarterly Program Review materials; (8) manages and coordinates the development of organizational and CDC-wide information technology policies to support CDC's public health science and programs; (9) manages and responds to Congressional inquiries and media requests as it relates to support of CDC's information technology policies; (10) serves as the point of contact for the policy analysis, technical review and final clearance of executive correspondence and policy documents that require approval from the Chief Information Officer, OCIO Leadership Team, or officials; (11) provides coordination and oversight for internal and external OCIO communications; (12) provides communications support for executive presentations, messages, and meetings; (13) ensures accurate and consistent information dissemination, including Freedom Of Information Act requests and Executive Secretariat controlled correspondence; (14) ensures consistent application of CDC correspondence standards and styles; and (15) provides leadership, technical assistance, and consultation in establishing best practices in internal and external business communication and implements external communication strategies to promote and protect OCIO and the agency's brand (e.g. employee communications, intranet, internet and other communication platforms).

Management Services Activity (CAJR163). (1) Provides budgetary information for business decision-making support surrounding information technology investments in support of the agency's mission and goals; (2) provides OCIO spend plan validation, remediation, and analysis; (3) prepares annual OCIO budget formulation and budget justifications; (4) ensures budget plans and changes are in compliance with decisions and agency direction; (5) plans, develops, manages, and conducts oversight of CDC's information services contracts; (6) coordinates and facilitates OCIO contracts use including requirements development, specifications, performance needs, quality assurance and service delivery, and contract administration; (7) provides guidance and assistance to programs on the various aspects of the contracts to meet their requirements; (8) coordinates and manages annual contract forecasting activities; (9) participates with senior management in program planning, policy determinations, evaluations, and decisions concerning escalation points for acquisitions and financial management; (10) conducts policy analysis, tracking, review and clearance as it relates to acquisitions and financial management to support CDC's public health science and programs; (11) provides workforce and human capital management oversight and direction for all OCIO components including employee relations; (12) gathers and analyzes information concerning OCIO workforce challenges and/or opportunities for leadership awareness, strategic planning, and operational improvement; (13) collects and analyzes data from employee viewpoint surveys and other sources to inform OCIO leadership and future initiatives; and (14) provides and oversees the delivery of OCIO-wide administrative management and support services in the areas of fiscal management, personnel, travel, records management, internal controls, and other administrative services.

Enterprise Data Office (CARG). (1) Develops, promotes, implements, and evaluates data science approaches for improved research of large and complex data sets; (2) maintains and leverages data acquired from multiple sources; (3) develops and implements solutions, often with partners and collaborators, to strengthen information systems and reporting; (4) develops and implements computer-based decision support tools and mobile applications that help to inform better decision-making; and (5) collaborates with other CDC programs to develop and promote informatics solutions for improving data management, practice, and preparedness; and (6) promotes a multidisciplinary approach (which includes statistics, analytics, data management, informatics, and evaluation sciences) to assure that the CDC programs, information systems, and data serve public health program objectives.

Delete in their entirety the titles and functional statements for the Enterprise Information Technology Portfolio Office (CAJR12), Acquisition Program Management Office (CAJR14), and the Management Analysis and Services Office (CAJRC).

Delete in its entirety the title and functional statement for Informatics Innovation Unit (CPNC12), Office of the Director (CPN1), Center for Surveillance, Epidemiology, and Laboratory Services (CPN).

This reorganization was approved by the Director, CDC.
Robert Redfield,
Director, Centers for Disease Control and Prevention.

[FR Doc. 2018-21670 Filed 10-4-18; 8:45 am]

BILLING CODE 4160-18-P